ENVIRONMENTAL PROTECTION AGENCY

[FRL-6584-9

Board of Scientific Counselors, Executive Committee Meeting

AGENCY: Environmental Protection Agency (EPA).

ACTION: Notice of meeting.

SUMMARY: Pursuant to the Federal Advisory Committee Act, Public Law 92-463, as amended (5 U.S.C., App. 2) notification is hereby given that the Environmental Protection Agency, Office of Research and Development (ORD), Board of Scientific Counselors (BOSC), will hold an Executive Committee Meeting.

DATES: The Meeting will be held on May 30-31, 2000. On Tuesday, May 30, the meeting will begin at 1 p.m., and will recess at 5 p.m. On Wednesday, May 31, the meeting will reconvene at 8:45 a.m. and adjourn at approximately 4:30 p.m. All times noted are Eastern Time.

ADDRESSES: The meeting will be held at the Washington Monarch Hotel, 2401 M Street, NW, Washington, DC, (202) 429-2400.

SUPPLEMENTARY INFORMATION: Agenda items will include, but not limited to: Discussion on ORD's Particulate Matter2.5 Research Program and BOSC Subcommittee Draft Reports on Particulate Matter, The SAB and BOSC Subcommittee Final Report on the Review of ORD's Science to Achieve Results (STAR) Program, and The State of ORD. Anyone desiring a draft BOSC agenda may fax their request to Shirley R. Hamilton, (202) 565-2444. The meeting is open to the public. Any member of the public wishing to make a presentation at the meeting should contact Shirley Hamilton, Designated Federal Office, Office of Research and Development (8701R), 1200 Pennsylvania Avenue NW, Washington, DC 20460; or by telephone at (202) 564-6853. In general, each individual making an oral presentation will be limited to a total of three minutes.

FOR FURTHER INFORMATION CONTACT: Shirley R. Hamilton, Designated Federal Officer, U.S. Environmental Protection Agency, Office of Research and Development, NCERQA (MC 8701R), 401 M Street NW, Washington, DC 20460, (202) 564-6853.

Dated: April 18, 2000.
Peter W. Preuss,
Director, National Center for Environmental Research.

[FR Doc. 00-10420 Filed 4-25-00; 8:45 am]

BILLING CODE 6560-50-M